DEPARTMENT OF LABOR

Office of the Secretary

Submission for OMB Review; Comment Request; Correction

May 15, 2002.

On Monday, May 5, 2002, the Department of Labor (DOL) published a notice in the Federal Register (67 FR 30400, May 6, 2002) announcing an opportunity to comment on an information collection request (ICR) that was submitted to the Office of Management and Budget (OMB) for review and approval in accordance with the Paperwork Reduction Act of 1995 (Pub. L. 104-13, 44 U.S.C. Chapter 35). The notice announced an opportunity to comment on the ICR for ESA's OFCCP Recordkeeping and Reporting Requirements—Supply and Service (OMB control number 1215-0072).

The corrections are as follows:

On page 30400 in the table, the average hours per response for Standard Form 100, should read “3.7” instead of “3.8”.

On page 30400, column one, the Total Burden Hours should read “9,967,675” instead of “9,967.675”

Ira L. Mills,
Departmental Clearance Officer.

[FR Doc. 02-12956 Filed 5-22-02; 8:45 am]

BILLING CODE 4510-CM-M